DEPARTMENT OF THE TREASURY

Departmental Offices; Privacy Act of 1974; System of Records

AGENCY: Office of Inspector General, Treasury.

ACTION: Notice of alteration of Privacy Act system of records.

SUMMARY: The Department of the Treasury, Office of Inspector General (OIG), gives notice of a proposed alteration to the system of records entitled “Investigative Data Management System “ Treasury/DO,” which is subject to the Privacy Act of 1974, as amended (5 U.S.C. 552a). The system was last published in its entirety in the Federal Register on February 19, 2002, at 67 FR 7487.

DATES: Comments must be received no later than April 30, 2003. The proposed routine use will be effective May 12, 2003, unless the Department receives comments that would result in a contrary determination.

ADDRESSES: Comments must be submitted to the Office of Counsel, Office of Inspector General, 740 15th Street, NW., Suite 110, Washington, DC 20220. Comments may be submitted via e-mail to: DelmarR@oig.treas.gov. Comments received will be available for inspection at the same address between the hours of 9 a.m. and 4 p.m. Monday through Friday.

FOR FURTHER INFORMATION CONTACT: Rich Delmar, Counsel to the Inspector General, (202) 927-0650.

SUPPLEMENTARY INFORMATION: As required by the Inspector General Act of 1978, as amended, 5 U.S.C.A. appendix 3, the OIG conducts investigations of the bureaus and offices of the Department of the Treasury, with the exception of the Internal Revenue Service. The investigative case files and data produced by this work are organized to be retrievable by names of subjects, complainants, victims, and witnesses.

The Homeland Security Act of 2002, Public Law 107-296 has caused certain bureaus of the Department of the Treasury to be transferred to other departments: the Bureau of Alcohol, Tobacco and Firearms to the Department of Justice, and the Secret Service, Customs Service, and Federal Law Enforcement Training Center to the Department of Homeland Security. The responsibilities of the OIG to conduct investigations regarding these bureaus are being similarly transferred to the OIGs of the Department of Justice (DOJ) and Department of Homeland Security (DHS). To enable these OIGs to carry out their investigative responsibilities, access to Treasury OIG investigative records regarding events and personnel of the transferred bureaus is necessary. New routine use (8) will accomplish this by allowing the OIGs of the DOJ and DHS to access Treasury OIG investigative reports and case files containing information related to the bureaus for which they have acquired responsibility.

Section 812 of the Homeland Security Act of 2002, Public Law 107-296, creates a new section 6(e) of the Inspector General Act of 1978, as amended, 5 U.S.C.A. appendix 3, by which OIGs are granted law enforcement authority as determined by the Attorney General. The statute requires that OIGs obtain peer reviews conducted by other OIGs to advise the Department of Justice and the President's Council on Integrity and Efficiency (PCIE) how this authority is used. New routine use (9) will allow other OIGs, the PCIE, and the Department of Justice, with respect to their involvement in conducting peer reviews of the Treasury OIG, access to the IDMS in connection with their evaluation of how Treasury OIG uses its law enforcement authority.

These two new routine uses are consistent with the purpose for which information is collected by this system, to detect and prevent fraud, waste, and abuse in the programs and operations of the bureaus and offices of the Department.

For the reasons set forth in the preamble, OIG proposes to alter system of records Treasury/DO.190—Investigative Data Management System, as follows:

Treasury/DO.190

System Name:

Investigative Data Management System—Treasury/DO.

* * * * *

Routine Uses of Records Maintained in the System, Including Categories of Users and the Purposes of Such Uses:

* * * * *

Description of change: The period “.” at the end of routine use (7) is replaced with a semicolon “;”, and the following routine uses are added at the end thereof:

“(8) Provide information to the Office of Inspector General of the Department of Justice with respect to investigations involving the Bureau of Alcohol, Tobacco and Firearms; and to the Office of Inspector General of the Department of Homeland Security with respect to investigations involving the Secret Service, Customs Service, and Federal Law Enforcement Training Center, for such OIGs' use in carrying out their obligations under the Inspector General Act of 1978, as amended, 5 U.S.C.A. Appendix 3 and other applicable laws; and

(9) Provide information to other OIGs, the President's Council on Integrity and Efficiency, and the Department of Justice, in connection with their review of Treasury OIG's exercise of statutory law enforcement authority, pursuant to section 6(e) of the Inspector General Act of 1978, as amended, 5 U.S.C.A. Appendix 3.”

* * * * *

Dated: March 17, 2003.
W. Earl Wright, Jr.,
Chief Management and Administrative Programs Officer.

[FR Doc. 03-7561 Filed 3-28-03; 8:45 am]

BILLING CODE 4810-27-P